DEPARTMENT OF VETERANS AFFAIRS

Advisory Committee on the Readjustment of Veterans, Notice of Meeting

The Department of Veterans Affairs (VA) gives notice under the Federal Advisory Committee Act, 5 U.S.C. 10, that the Advisory Committee on the Readjustment of Veterans will meet in person and virtually on February 7, 2023-February 9, 2023.

The sessions will begin, and end as follows in the noted locations:

Dates | Locations | Times | Open session
February 7, 2023 | Chula Vista Vet Center, 180 Otay Lakes Road, Unit 108, Bonita, CA | 8:00 a.m. to 4:00 p.m. Pacific Standard Time (PST) | No.
February 8, 2023 | San Marcos Vet Center, 1 Civic Center Drive, Suite 150, San Marcos, CA 92069-2934 | 8:00 a.m. to 9:30 p.m. PST | No.
February 8, 2023 | San Diego VA Benefits, Regional Office, 8810 Rio San Diego Drive, San Diego, CA 92108 | 10:15 a.m. to 4:00 p.m. PST | Yes.
February 9, 2023 | San Diego VA Benefits, Regional Office, 8810 Rio San Diego Drive, San Diego, CA 92108 | 8:00 a.m. to 4:00 p.m. PST | Yes.

The meeting sessions are open to the public, except when the Committee is conducting tours of VA facilities. Tours of VA facilities are closed to protect Veterans' privacy and personal information, in accordance with 5 U.S.C. 552b(c)(6).

The purpose of the Committee is to advise the VA regarding the provision by VA of benefits and services to assist Veterans in the readjustment to civilian life. In carrying out this duty, the Committee shall take into account the needs of Veterans who served in combat theaters of operation. The Committee assembles, reviews, and assesses information relating to the needs of Veterans readjusting to civilian life and the effectiveness of VA services in assisting Veterans in that readjustment.

The Committee, comprised of 13 subject matter experts, advises the Secretary, through the VA Readjustment Counseling Service, on the provision by VA of benefits and services to assist Veterans in the readjustment to civilian life. In carrying out this duty, the Committee assembles, reviews, and assesses information relating to the needs of Veterans readjusting to civilian life and the effectiveness of VA services in assisting Veterans in that readjustment, specifically taking into account the needs of Veterans who served in combat theaters of operation.

On February 7, 2023, the agenda will include a site visit of the Chula Vista Vet Center, 180 Otay Lakes Road, Unit 108, Bonita, CA, from 8:00 a.m.-4:00 p.m. PST. The meeting session is closed to the public in accordance with 5 U.S.C. 552b(c)(6). Exemption 6 permits the Committee to close a meeting that is likely to disclose information of a personal nature where disclosure would constitute a clearly unwarranted invasion of personal privacy, which will most likely be the case throughout this field visit.

On February 8, 2023, the agenda will include a visit with the Readjustment Counseling Team of the San Marcos Vet Center, 1 Civic Center Drive, Suite 150, San Marcos, CA 92069-2934 from 8:00 a.m. to 9:30 a.m. PST. This portion of the meeting will be closed to the public in accordance with 5 U.S.C. 552b(c)(6). Exemption 6 permits the Committee to close a meeting that is likely to disclose information of a personal nature where disclosure would constitute a clearly unwarranted invasion of personal privacy, which will most likely be the case throughout this field visit. From 10:15 a.m. to 4:00 p.m. PST, the meeting will reconvene in an open session at the San Diego VA Regional Benefits Office located at 8810 Rio San Diego Drive, San Diego, CA 92108. During this session, the agenda will include a briefing from the California National Guard Leadership Team and an overview from the California Department of Veterans Services.

On February 9, 2023, the session is open to the public and will be held at the San Diego VA Benefits Regional Office, 8810 Rio San Diego Drive, San Diego, CA 92108. The agenda will include presentations from the RCS District 5 Leadership and RCS Strategy and Analysis Office. Additionally, the Committee will be solely focused on writing the 23rd Annual Report, which will be accomplished through breakout groups and open full committee discussion.

No time will be allotted for receiving oral comments from the public; however, the committee will accept written comments from interested parties on issues outlined in the meeting agenda or other issues regarding the readjustment of Veterans. Parties should contact Mr. Richard Barbato, via email at VHARCSPlanningPolicy@va.gov or by mail at Department of Veterans Affairs, Readjustment Counseling Service (10RCS), 810 Vermont Avenue, Washington, DC 20420.

Any member of the public seeking additional information should contact Mr. Barbato at the email addressed noted above. For any members of the public that wish to attend the open portions of the virtual meeting, they may use the following WebEx link: https://veteransaffairs.webex.com/wbxmjs/joinservice/sites/veteransaffairs/meeting/download/f801e68c030b4cd7b7183e952f32a2c4?siteurl=veteransaffairs&MTID=m5880a9d5ab7017367539ba2694c2017f.

Dated: January 17, 2023.
Jelessa M. Burney,
Federal Advisory Committee Management Officer.

[FR Doc. 2023-01038 Filed 1-19-23; 8:45 am]

BILLING CODE P